DEPARTMENT OF EDUCATION

National Institute on Disability and Rehabilitation Research (NIDRR); Notice of Extension

AGENCY: Office of Special Education and Rehabilitative Services, Department of Education.

ACTION: Notice of extension of project period and waiver for the National Center for the Dissemination of Disability Research (NCDDR) Project.

SUMMARY: The Secretary waives the requirements in Education Department General Administrative Regulations (EDGAR), at 34 CFR 75.250 and 75.261(a) and (c)(2), respectively, that generally prohibit project periods exceeding 5 years and project period extensions involving the obligation of additional Federal funds. This extension of project period and waiver will enable a Disability and Rehabilitation Research Project (DRRP) that conducts research on issues relating to the dissemination and utilization of research results developed through NIDRR grants and contracts to receive funding from October 1, 2004, until September 30, 2005.

EFFECTIVE DATE: This notice is effective May 17, 2004.

FOR FURTHER INFORMATION CONTACT: Donna Nangle, U.S. Department of Education, 400 Maryland Avenue, SW., room 3412, Switzer Building, Washington, DC 20202-2645. Telephone: (202) 205-5880 or via Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION: NIDRR supports the goals of the President's New Freedom Initiative (NFI) and the National Institute on Disability and Rehabilitation Research Long Range Plan (Plan) to improve rehabilitation services and outcomes for individuals with disabilities.

Note: The NFI can be accessed on the Internet at the following site: http://www.whitehouse.gov/news/freedominitiative/freedominitiative.htm.

The Plan can be accessed on the Internet at the following site: http://www.ed.gov/rschstat/research/pubs/index.html.

In accordance with the goals of the NFI and the Plan, and as authorized under section 204(a)(1) of the Rehabilitation Act of 1973, as amended, through NIDRR, the Department provides funding for projects to improve services and outcomes for individuals with disabilities. In order to foster more efficient use of Federal funds for the DRRP program, the Secretary intends to refocus the priorities for dissemination and utilization of research results and provide funding for new awards in fiscal year (FY) 2005.

The grant for the NCDDR currently administered by the Southwest Educational Development Laboratory, Austin, Texas, is scheduled to expire September 30, 2004. It would be contrary to the public interest, however, to have any lapse in the research and related activities conducted by NCDDR before the refocused priorities can be implemented and new awards granted for FY 2005.

To avoid any lapse in research and related activities before the refocused priorities can be implemented, therefore, the Secretary has decided to fund this project until September 30, 2005. Accordingly, the Secretary waives the requirements in 34 CFR 75.250 and 75.261(a) and (c)(2), which prohibit project periods exceeding 5 years and extensions of project periods that involve the obligation of additional Federal funds.

Waiver of Proposed Rulemaking

Under the Administrative Procedure Act (5 U.S.C. 553) the Department generally offers interested parties the opportunity to comment on proposed regulations. However, the waiver of the requirements in 34 CFR 75.250 and 75.261 applicable to the maximum project period and extension of the project period for these grants on a one-time only basis is procedural and does not establish new substantive policy. Therefore, under 5 U.S.C. 553(b)(A), proposed rulemaking is not required.

In addition, given the fact that the additional period of funding is only for a period of 12 months from the expiration of the existing grant agreement in September 2004, and affects only the potential lapse in funding for the above-mentioned project, the Secretary has determined that proposed rulemaking on this waiver is impracticable, unnecessary, and contrary to the public interest. Thus, proposed rulemaking also is not required under 5 U.S.C. 553(b)(B).

Regulatory Flexibility Act Certification

The Secretary certifies that this extension of the project period and waiver will not have a significant economic impact on a substantial number of small entities.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133A, Disability Rehabilitation Research Project.)

Program Authority: 29 U.S.C. 762(g) and 764(a).

Dated: April 12, 2004.
Troy R. Justesen,
Acting Deputy Assistant, Secretary for Special Education and Rehabilitative Services.

[FR Doc. 04-8706 Filed 4-15-04; 8:45 am]

BILLING CODE 4000-01-P